DEPARTMENT OF JUSTICE

Antitrust Division

Notice Pursuant to the National Cooperative Research and Production Act of 1993—DVD Copy Control Association (“DVD CCA”)

Notice is hereby given that, on July 2, 2003, pursuant to Section 6(a) of the National Cooperative Research and Production Act of 1993, 15 U.S.C. 4301 et seq. (“the Act”), DVD CCA has filed written notifications simultaneously with the Attorney General and the Federal Trade Commission disclosing changes in its membership status. The notifications were filed for the purpose of extending the Act's provisions limiting the recovery of antitrust plaintiffs to actual damages under specified circumstances. Specifically, CIS Technology, Inc., Taipei Hsien, TAIWAN; DOCdata Benelux (OMM bv), Tilburg, THE NETHERLANDS; EMI Operations Italy S.p.A., Caronno Pertusella, ITALY; Humax Co., Ltd., Gyeonggi-Do, REPUBLIC OF KOREA; Lu Kee Electronic Co., Ltd., Hong Kong, HONG KONG-CHINA; ODS Optical Disc Service GmbH, Dassow, GERMANY; Shanghai HongSheng (Norcent) Technology Co., Ltd., Shanghai, PEOPLE'S REPUBLIC OF CHINA; TAKT Kwaitkowski & Miadzel Sp.J., Boleslaw, POLAND; Trident Microsystems, Inc., Sunnyvale, CA; Videon Central, Inc., State College, PA; and ZheJiang HuaHong Optoelectronics Group Co., Ltd., Hangzhou, PEOPLE'S REPUBLIC OF CHINA have been added as parties to this venture.

Also, Afreey Inc., Taipei, TAIWAN; Alphacast Co. Ltd., Seoul, REPUBLIC OF KOREA; Applied Research Corporation, Taiepei Hsien, TAIWAN; Esonic Technology Corporation, Taipei, TAIWAN; FM Com Corp., Kyungki-Do, REPUBLIC OF KOREA; Friendly CD-Tek Corporation, Taipei, TAIWAN; Goldteck International Inc., Taipei, TAIWAN; Great China Technology Inc., Taipei Hsien, TAIWAN; Gynco Electronics (H.K.) Ltd., Hong Kong, HONG KONG-CHINA; Hanbit System Co., Ltd., Kyonggi-do, REPUBLIC OF KOREA; Hermosa Cysware Ltd., Taipei, TAIWAN; Highlead Technology, Taipei Hsien, TAIWAN; Iavix Technology Co., Ltd., Taipei, TAIWAN; Iomega Corporation, Roy, UT; Jeu Hang Technology Co., Ltd., Taipei, TAIWAN; Jointeck (HK) Limited, Hong Kong, HONG KONG-CHINA; Linux Technology Ltd., Taipei, TAIWAN; Makidol Electronics Co., Ltd., Shenzhen, PEOPLE'S REPUBLIC OF CHINA; Maxwell Productions, LLC, Scottsdale, AZ; MbyN Inc., Kyungki-do, REPUBLIC OF KOREA; Media Dimensions, Inc., Austin, TX; Media Group, Inc., Fremont, CA: Megatron Co., Ltd., Seoul, REPUBLIC OF KOREA; Novac Co., Ltd., Tokyo, JAPAN; Optical Disc Stampers, Orange, CA; Shenzhen WED Development Co., Ltd., Guangdong, PEOPLE'S REPUBLIC OF CHINA; Shunde Xiongfend Electric Industrial Company, Guangdong, PEOPLE'S REPUBLIC OF CHINA; Takaya Corporation, Tokyo, JAPAN; Tanway Electronic Factory, Hong Kong, HONG KONG-CHINA; TVIA, Santa Clara, CA; Unidisc Technology Co., Ltd., Taipei Hsien, TAIWAN; Zen Research NV, Curacao, NETHERLANDS ANTILLES; and Zenix Electronics Limited, Hong Kong, HONG KONG-CHINA have been dropped as parties to this venture. In addition, Ravisent has changed its name to Sonic Solutions, Novato, CA.

No other changes have been made in either the membership or planned activity of the group research project. Membership in this group research project remains open, and DVD CCA intends to file additional written notification disclosing all changes in membership.

On April 11, 2001, DVD CCA filed its original notification pursuant to Section 6(a) of the Act. The Department of Justice published a notice in the Federal Register pursuant to Section 6(b) of the Act on August 3, 2001 (66 FR 40727).

The last notification was filed with the Department on April 4, 2003. A notice was published in the Federal Register pursuant to Section 6(b) of the Act on May 14, 2003 (68 fr 25905).

Constance K. Robinson,
Director of Operations, Antitrust Division.

[FR Doc. 03-19673 Filed 8-1-03; 8:45 am]

BILLING CODE 4410-11-M